DEPARTMENT OF JUSTICE

Notice of Lodging of Consent Decree Under the Clean Air Act

Notice is hereby given that on January 18, 2001, a proposed Consent Decree in United States v. CENCO Refining Co., Civil Action No. CV 01-00512-RSWL (AIJx) was lodged with the United States District Court for the Central District of California.

This consent decree represents a settlement of claims brought against CENCO Refining Co. (“CENCO”) under 28 U.S.C. 2201(a) and Section 113(b) of the Clean Air Act (“the Act”), 42 U.S.C. 7413(b), for a declaratory judgment that CENCO's building, erecting installing, altering and/or replacing of any equipment at its oil refining facility that may cause the issuance of air contaminants without first obtaining all pre-construction permits required under the Act and the California State Implementation Plan, violates the Act and the California State Implementation Plan, entitling the United States to injunctive relief and civil penalties against CENCO.

Under the proposed settlement, CENCO will undertake significant injunctive measures designed to limit the facility's emissions of nitrogen oxides, sulfur oxides and volatile organic compounds.

The Department of Justice will receive for a period of thirty (30) days from the date of this publication comments relating to the Consent Decree. Comments should be addressed to the Assistant Attorney General, Environment and Natural Resources Division, PO Box 7611, U.S. Department of Justice, Washington, DC 20044-7611, and should refer to United States v. CENCO Refining Co., D.J. Ref. 90-5-2-1-07306. A copy of all comments should also be sent to Matthew A. Fogelson, U.S. Department of Justice, Environment and Natural Resources Division, Environmental Enforcement Section, 301 Howard Street, San Francisco, CA 94105.

The Consent Decree may be examined at the Office of the United States Attorney, 300 North Los Angeles Street, Room 7516, Federal Building, Los Angeles, California, and at U.S. EPA Region 9, 75 Hawthorne Street, San Francisco, California. A copy of the Consent Decree may also be obtained by mail from the Consent Decree Library, PO Box 7611, U.S. Department of Justice, Washington, DC 20044-7611. In requesting a copy, please enclose a check in the amount of $5.25 (25 cents per page reproduction cost) payable to the Consent Decree Library.

Ellen Mahan,
Assistant Chief, Environmental Enforcement Section, Environment and Natural Resources Division.

[FR Doc. 01-3064 Filed 2-5-01; 8:45 am]

BILLING CODE 4410-17-M